DEPARTMENT OF DEFENSE

Department of the Navy

Notice of Intent To Grant Exclusive Patent License; Duchak Ventures, LLC

AGENCY: Department of the Navy, DoD.

ACTION: Notice; correction.

SUMMARY: The Department of the Navy published a document in the Federal Register on August 23, 2018, announcing an intent to grant to Duchak Ventures, LLC, a revocable, nonassignable, exclusive license. The scope of the intent to license has been revised.

DATES: Anyone wishing to object to the grant of this license must file written objections along with supporting evidence, if any, not later than September 25, 2018.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@.nrl.navy.mil or use courier delivery to expedite response.

Correction

In the Federal Register of August 23, 2018, 83 FR 42647, document number 2018-18210, make the following correction:

In the first column, on page 42647, correct the SUMMARY caption to read as follows:

SUMMARY: The Department of the Navy hereby gives notice of its intent to grant to Duchak Ventures, LLC., a revocable, nonassignable, exclusive license to practice in the field of use of filtering media within a respirator cartridge or respirator system and meant for human wear and the field of use of air filter media for safety and hygiene applications in public, residential, industrial, and commercial facilities and structures in the United States, the Government-owned invention described in U.S. Patent No. 7,749,438: Fluorophore Embedded/Incorporating/Bridged Periodic Mesoporous Organosilicas as Recognition Elements for Optical Sensors, Navy Case No. 097,345.//U.S. Patent No, 7,754,145: Fluorphore Embedded/Incorporating/Bridged Periodic Mesoporous Organosilicas as Recognition Photo-Decontamination Catalysts, Navy Case No. 097,346.//and any continuations, divisionals, or re-issues thereof.

Dated: September 4, 2018.
Meredith Steingold Werner,
Lieutenant Commander, Judge Advocate General's Corps, U.S. Navy, Federal Register Liaison Officer.

[FR Doc. 2018-19446 Filed 9-7-18; 8:45 am]

BILLING CODE 3810-FF-P